DEPARTMENT OF TRANSPORTATION

Federal Highway Administration

Environmental Impact Statement; Washington, DC

AGENCIES: Federal Highway Administration, District of Columbia Division; District of Columbia, Department of Transportation.

ACTION: Notice of Intent (NOI) to prepare an Environmental Impact Statement.

SUMMARY: The U.S. Federal Highway Administration (FHWA) in coordination with the District of Columbia Department of Transportation (DDOT) in Washington, DC is issuing this notice to advise the public that an Environmental Impact Statement (EIS) will be prepared to assess the potential effects of the proposed action to reopen Klingle Road, NW., to vehicular access in Washington, DC. To ensure that all significant issues related to the proposed action are identified, DDOT will conduct a public scoping meeting.

FOR FURTHER INFORMATION CONTACT: Federal Highway Administration, District of Columbia Division: Mr. Michael Hicks, Environmental/Urban Engineer, 1990 K Street, NW., Suite 510, Washington, DC 20006-1103, (202) 219-3536; or Maurice Keys, District of Columbia, Department of Transportation, (202) 671-2740.

SUPPLEMENTARY INFORMATION: Klingle Road is located in northwest Washington, DC and runs northeast to west from Beach Drive in Rock Creek Park to the Washington National Cathedral. The segment of Klingle Road between Porter Street, NW. and Cortland Place, NW. (approximate designations) was closed to traffic in 1991 due to deterioration of the roadway related to drainage failure. The Council of the District of Columbia never officially closed this segment of Klingle Road through a legislative action, however [this portion of the road remains closed to traffic. Failure of the drainage system has resulted in severe deterioration of the roadway, headwalls, and underlying stormwater system. At a minimum the no-action alternative would include repairing the retaining walls to better manage stormwater run-off in the study area. The purpose of the proposed action is to provide an east-west connection through Rock Creek Park in the District of Columbia by reopening Klingle Road to vehicular access. The Klingle Road Restoration Act of 2003, Bill #B15-0061, was introduced by the Council of the District of Columbia in January 2003 and was enacted in March 2003. Section 3 of the bill specifically states “The portion of Klingle Road, NW., between Porter Street, NW., on the east to Cortland Place, NW., on the west, shall be repaired and re-opened to the public for vehicular traffic and recreational uses.” The directive to repair Klingle Road was codified in to law as part of the Fiscal Year 2004 Budget Support Act of 2003, effective November 13, 2003 (D.C. Law 15-39; D.C. Official Code § 9-115.11). According to this Act: The portion of Klingle Road, NW., between Porter Street, NW., on the east to Cortland Place, NW., on the west shall be re-opened to the public for motor vehicle traffic, with the repair and reconstruction of Klingle Road, which shall include the establishment of a District Department of Transportation storm water management plan, to commence no later than 180 days following November 13, 2003.’

The environmental review of the vehicular use alternatives will be conducted in accordance with the requirements of the National Environmental Policy Act (NEPA) of 1969, as amended (42 U.S.C. 4371, et seq.), Council on Environmental Quality (CEQ) regulations (40 CFR parts 1500-1508), FHWA Code of Federal Regulations (CFR 23 part 771.101-771.137 et seq.), and all applicable Federal, state, and local government laws, regulations, and policies.

Public Scoping Meeting: DDOT will solicit public comments for consideration and possible incorporation in the Draft EIS through public scoping, including a scoping meeting, on the proposed action. To ensure that the full range of issues related to this proposed action are addressed and all significant issues are identified early in the process, comments and suggestions are invited from all interested and/or potentially affected parties. These individuals or groups are invited to attend the public scoping. The meeting location and time will be publicized in local newspapers and elsewhere. Written comments will be accepted throughout this process and can be forwarded to the address provided above.

(Catalog of Federal Domestic Assistance Program Number 20.205 Highway Planning and Construction. The regulations implementing Executive Order 12372 regarding intergovernmental consultation on Federal programs and activities apply to this program).

Issued on: March 12, 2004.
Gary L. Henderson,
Division Administrator, District of Columbia Division, Federal Highway Administration.

[FR Doc. 04-6027 Filed 3-16-04; 8:45 am]

BILLING CODE 4910-22-M